DEPARTMENT OF HEALTH AND HUMAN SERVICES

42 CFR Part 5

Negotiated Rulemaking Committee on Designation of Medically Underserved Populations and Health Professional Shortage Areas; Notice of Meeting

AGENCY: Health Resources and Services Administration, HHS.

ACTION: Correction.

SUMMARY: The Health Resources and Services Administration published a notice in the Federal Register, (76 FR 50442, Doc. 2011-20690), on August 15, 2011, announcing the meeting of the Negotiated Rulemaking Committee on Designation of Medically Underserved Populations and Health Professional Shortage Areas on September 20, 21, and 22, 2011. The dates of the meeting and contact information were incorrect.

Correction

In the Federal Register published Monday, August 15, 2011 (76 FR 50442, FR Doc. 2011-20690), please make the following corrections:

In the DATES section, correct to read September 21, 2011, 9:30 a.m. to 6 p.m.; September 22, 2011, 9 a.m. to 6 p.m.; and September 23, 2011, 9 a.m. to 3 p.m. EST.

In the FOR FURTHER INFORMATION CONTACT section, correct to read: For more information, please contact LaCrystal McNair, National Center for Health Care Workforce Analysis, Bureau of Health Professions, Health Resources and Services Administration, Room 9-29, Parklawn Building, 5600 Fishers Lane, Rockville, Maryland 20857. Telephone (301) 443-3578, E-mail: lmcnair@hrsa.gov or visit http://www.hrsa.gov/advisorycommittees/shortage/.

Dated: August 30, 2011.
Reva Harris,
Acting Director, Division of Policy and Information Coordination.

[FR Doc. 2011-22586 Filed 9-2-11; 8:45 am]

BILLING CODE 4165-15-P